DEPARTMENT OF HEALTH AND HUMAN SERVICES

National Institutes of Health

Center for Scientific Review; Amended Notice of Meeting

Notice is hereby given of a change in the meeting of the Center for Scientific Review Special Emphasis Panel, April 4, 2001, 3 p.m. to April 4, 2001, 4 p.m., NIH, Rockledge 2, Bethesda, MD 20892 which was published in the Federal Register on March 23, 2001, 66 FR 16275-16276.

The meeting will be held on April 5, 2001, from 2 p.m. to 3 p.m. The location remains the same. The meeting is closed to the public.

Dated: March 30, 2001.
LaVerne Y. Stringfield,
Director, Office of Federal Advisory Committee Policy.

[FR Doc. 01-8356 Filed 4-4-01; 8:45 am]

BILLING CODE 4140-01-M